DEPARTMENT OF ENERGY

Federal Energy Regulatory Commission

[Docket No. EF00-2011-000, et al.]

U.S. Department of Energy, et al.; Electric Rate and Corporate Regulation Filings

March 31, 2000.

Take notice that the following filings have been made with the Commission:

1. U.S. Department of Energy, Bonneville Power Administration

[Docket Nos. EF-2011-000]

Take notice that on March 21, 2000, the Bonneville Power Administration (BPA) tendered for filing a proposed rate adjustment to its rate schedule FPS-96 pursuant to section 7(a)(2) of the Pacific Northwest Electric Power Planning and Conservation Act, 16 U.S.C. 839e(a)(2). Pursuant to Section 300.20 of the Commission's regulations (18 CFR 300.20), BPA seeks interim approval of its proposed rates effective May 19, 2000 Pursuant to Section 300.21 of the Commission's regulations (18 CFR 300.21), BPA seeks interim approval and final confirmation of the proposed rates for the periods set forth in this notice.

BPA requests approval effective May 19, 2000, through September 30, 2006, for the FPS-96R Firm Power Products and Services Rate adjustment. BPA states that this approval is necessary for it to compete and assure cost recovery.

Comment date: April 20, 2000, in accordance with Standard Paragraph E at the end of this notice.

2. Nitrogen Limited

[Docket No. EG00-119-000]

Take notice that on March 28, 2000, Nitrogen Limited (Applicant), with its principal office at Windmill Hill Business Park, White Hill Way, Swindon, Wiltshire, England SW1A 1JT, filed with the Federal Energy Regulatory Commission an application for determination of exempt wholesale generator status pursuant to Part 365 of the Commission's regulations.

Applicant states that it will own a 680 megawatt natural gas-fired electric generating facility located in Lincolnshire, England (the Facility). Electric energy produced by the Facility will be sold at wholesale to the Power Pool of England and Wales. In no event will any electric energy be sold to consumers in the United States.

Comment date: April 21, 2000, in accordance with Standard Paragraph E at the end of this notice. The Commission will limit its consideration of comments to those that concern the adequacy or accuracy of the application.

3. Northeast Utilities Service Company

[Docket Nos. ER95-1686-007, ER96-496-009, ER97-1359-000, OA97-300-000, and ER98-4604-000]

Take notice that on March 27, 2000, Northeast Utilities Service Company (NUSCO), tendered for filing a refund report in compliance with the Commission's order in Northeast Utilities Service Company, 89 FERC ¶ 61,184 (1999).

Comment date: April 17, 2000, in accordance with Standard Paragraph E at the end of this notice.

4. Consolidated Edison Energy, Inc.

[Docket No. ER00-865-001]

Take notice that on March 27, 2000, Consolidated Edison Energy, Inc. (Con Edison Energy) tendered revisions to its market-based rate tariffs in compliance with the Commission's February 24, 2000 order in this proceeding.

Con Edison Energy states that a copy of this filing has been sent to all purchasers under the affected rate schedules and to all persons designated for service on the official service list.

5. Entergy Services, Inc.

[Docket No. ER00-1933-000]

Take notice that on March 27, 2000 Entergy Services, Inc. (Entergy Services), on behalf of Entergy Arkansas, Inc., Entergy Gulf States, Inc., Entergy Louisiana, Inc., Entergy Mississippi, Inc., and Entergy New Orleans, Inc. (collectively, the Entergy Operating Companies), tendered for filing a new Attachment M to its Open Access Transmission Tariff, designated as FERC Electric Tariff Original Volume No. 3, addressing transmission business practices related to source and sink information required for reserving and scheduling point-to-point transmission service.

Comment date: April 17, 2000, in accordance with Standard Paragraph E at the end of this notice.

6. Revelation Energy Resources Corporation

[Docket No. ER97-765-006]

Take notice that on March 22, 2000, Revelation Energy Resources Corporation filed a quarterly report for the quarter ended December 31, 1999 for information only.

7. City of Mishawaka, Indiana and Indiana Michigan Power Company

[Docket No. ER00-1968-000]

Take notice that on March 23, 2000, the City of Mishawaka, Indiana (City) and Indiana Michigan Power Company filed, pursuant to Section 3.F of FERC Electric Tariff WS, a Notice to Terminate the System Sales Clause.

Comment date: April 13, 2000, in accordance with Standard Paragraph E at the end of this notice.

8. New York Independent System Operator, Inc.

[Docket No. ER00-1969-000]

Take notice that on March 27, 2000, the New York Independent System Operator, Inc. (NYISO) filed a Request for Suspension of Market-Based Pricing for 10-Minute Reserves and to Shorten Notice Period and proposed tariff changes related thereto.

A copy of this filing was served upon all persons on the Commission's official service list in Docket Nos. ER97-1523-000, OA97-470-000 and ER97-4234-000, not consolidated, and all parties who have executed Service Agreements under the ISO OATT and the ISO Services Tariff.

Comment date: April 17, 2000, in accordance with Standard Paragraph E at the end of this notice.

9. The Detroit Edison Company

[Docket No. ER00-1974-000]

Take notice that on March 27, 2000, The Detroit Edison Company (Detroit Edison) tendered for filing Service Agreements (the Service Agreement) for Short-term Firm Point-to-Point Transmission Service under the Joint Open Access Transmission Tariff of Consumers Energy Company and Detroit Edison, FERC Electric Tariff No. 1, between Detroit Edison and Nordic Electric, L.L.C., (Customer) dated as of March 15, 2000. The parties have not engaged in any transactions under the Service Agreements prior to thirty days to this filing.

Detroit Edison requests that the Service Agreements be made effective as rate schedules as of March 28, 2000.

Comment date: April 17, 2000, in accordance with Standard Paragraph E at the end of this notice.

10. Cleco Utility Group Inc.

[Docket No. ER00-1976-000]

Take notice that on March 27, 2000 Cleco Utility Group Inc., Transmission services (CLECO) filed their service agreement for non firm point-to-point transmission service under its Open Access Transmission Tariff with Conectiv Energy Supply, Inc.

CLECO requests an effective date of March 27, 2000.

Comment date: April 17, 2000, in accordance with Standard Paragraph E at the end of this notice.

11. Louisville Gas and Electric Company/Kentucky Utilities Company

[Docket No. ER00-1977-000]

Take notice that on March 27, 2000, Louisville Gas and Electric Company (LG&E)/Kentucky Utilities Company (KU) (hereinafter Companies) tendered for filing an executed unilateral Service Agreement between the Companies and PG&E Energy Trading—Power, L.P. under the Companies Rate Schedule MBSS.

Comment date: April 17, 2000, in accordance with Standard Paragraph E at the end of this notice.

12. Northern States Power Company (Minnesota) and Northern States Power Company (Wisconsin)

[Docket No. ER00-1978-000]

Take notice that on March 27, 2000, Northern States Power Company (Minnesota) and Northern States Power Company (Wisconsin) (jointly NSP) tendered for filing a Non-Firm and a Short-Term Firm Point-to-Point Transmission Service Agreement between NSP and FPL Energy Power Marketing, Inc.

NSP requests that the Commission accept the Agreement effective March 7, 2000, and requests waiver of the Commission's notice requirements in order for the agreements to be accepted for filing on the date requested.

Comment date: April 17, 2000, in accordance with Standard Paragraph E at the end of this notice.

13. Northern States Power Company (Minnesota) and Northern States Power Company (Wisconsin)

[Docket No. ER00-1979-000]

Take notice that on March 27, 2000, Northern States Power Company (Minnesota) and Northern States Power Company (Wisconsin) (jointly NSP) tendered for filing a Short-Term Firm Point-to-Point Transmission Service Agreement between NSP and El Paso Energy Marketing Company.

NSP requests that the Commission accept the agreement effective March 1, 2000, and requests waiver of the Commission's notice requirements in order for the agreement to be accepted for filing on the date requested.

Comment date: April 17, 2000, in accordance with Standard Paragraph E at the end of this notice.

14. Consumers Energy Company

[Docket No. ER00-1980-000]

Take notice that on March 27, 2000, Consumers Energy Company (Consumers) tendered for filing executed service agreements for Firm and Non-Firm Point-to-Point Transmission Service with Engage Energy US, L.P.

The agreements were pursuant to the Joint Open Access Transmission Service Tariff filed on December 31, 1996 by Consumers and The Detroit Edison Company (Detroit Edison) and have an effective date of March 21, 2000.

Copies of the filed agreements were served upon the Michigan Public Service Commission, Detroit Edison, and Engage Energy US, L.P.

Comment date: April 17, 2000, in accordance with Standard Paragraph E at the end of this notice.

15. Panda Gila River, L.P.

[Docket No. ER00-1981-000]

Take notice that on March 27, 2000, Panda Gila River, L.P. (Panda Gila River), tendered for filing pursuant to Section 205 of the Commission's Rules of Practice and Procedure, 18 CFR 385.205, a petition for waivers and blanket approvals under various regulations of the Commission and for an order accepting its FERC Electric Rate Schedule No. 1, and for the purpose of permitting Panda Gila River to assign transmission capacity and to resell Firm Transmission Rights, to be effective no later than sixty (60) days from the date of its filing.

Panda Gila River intends to engage in electric power and energy transactions as a marketer and a broker. In transactions where Panda Gila River sells electric energy, it proposes to make such sales on rates, terms, and conditions to be mutually agreed to with the purchasing party. Neither Panda Gila River nor any of its affiliates is in the business of transmitting or distributing electric power.

Rate Schedule No. 1 provides for the sale of energy and capacity at agreed prices.

Comment date: April 17, 2000, in accordance with Standard Paragraph E at the end of this notice.

16. Panda Oneta Power, L.P.

[Docket No. ER00-1982-000]

Take notice that on March 27, 2000, Panda Oneta Power, L.P. (Panda Oneta), tendered for filing pursuant to the Section 205 of the Commission's Rules of Practice and Procedures, 18 CFR 205, a petition for waivers and blanket approvals under various regulations of the Commission and for an order accepting its FERC Electric Rate Schedule No. 1, and for the purpose of permitting Panda Oneta to assign transmission capacity and to resell Firm Transmission Rights, to be effective no later than sixty (60) days from the date of its filing.

Panda Oneta intends to engage in electric power and energy transactions as a marketer and a broker. In transactions where Panda Oneta sells electric energy, it proposes to make such sales on rates, terms, and conditions to be mutually agreed to with the purchasing party. Neither Panda Oneta nor any of its affiliates is in the business of transmitting or distributing electric power.

Rate Schedule No. 1 provides for the sale of energy and capacity at agreed prices.

Comment date: April 17, 2000, in accordance with Standard Paragraph E at the end of this notice.

17. Illinois Power Company

[Docket No. ER00-1991-000]

Take notice that on March 27, 2000, Illinois Power Company filed their quarterly report for the quarter ending December 31, 1999.

Comment date: April 20, 2000, in accordance with Standard Paragraph E at the end of this notice.

18. The Montana Power Company

[Docket No. ER00-1992-000]

Take notice that on March 28, 2000, The Montana Power Company (Montana) tendered for filing with the Federal Energy Regulatory Commission pursuant to 18 CFR 35.13 an executed Network Integration Transmission Service Agreement and Network Operating Agreement with Central Montana Electric Power Cooperative Inc. under Montana's FERC Electric Tariff, Fourth Revised Volume No. 5 (Open Access Transmission Tariff).

A copy of the filing was served upon Central Montana Electric Power Cooperative Inc.

Comment date: April 18, 2000, in accordance with Standard Paragraph E at the end of this notice.

19. Cleco Utility Group Inc.

[Docket No. ER00-1993-000]

Take notice that on March 28, 2000 Cleco Utility Group Inc., Transmission services (CLECO), tendered for filing their service agreements for non-firm and short term firm point-to-point transmission services under its Open Access Transmission Tariff with British Columbia Power Exchange Corporation (Powerex).

CLECO requests an effective date of March 27, 2000.

Comment date: April 19, 2000, in accordance with Standard Paragraph E at the end of this notice.

20. Avista Corporation

[Docket No. ER00-1994-000]

Take notice that on March 28, 2000, Avista Corporation tendered for filing notice that Rate Schedule FERC No. 27, under the Commission's Docket No. ER92-824-000, previously filed with the Federal Energy Regulatory Commission by Avista Corporation, formerly known as The Washington Water Power Company, under its FERC Electric Rate Tariff Original Volume No. 4, with Public Service Company of New Mexico is to be terminated, effective March 23, 2000 by the request of Public Service Company of New Mexico per its letter dated March 16, 2000.

Notice of the cancellation has been served upon the Public Service Company of New Mexico.

Comment date: April 19, 2000, in accordance with Standard Paragraph E at the end of this notice.

21. New Century Services, Inc.

[Docket No. ER00-1995-000]

Take notice that on March 28, 2000, New Century Services, Inc., on behalf of Cheyenne Light, Fuel and Power Company, Public Service Company of Colorado, and Southwestern Public Service Company (collectively Companies), tendered for filing a Service Agreement under their Joint Open Access Transmission Service Tariff for Long-Term Firm Point-to-Point Transmission Service between the Companies and Southwestern Public Service Company—Wholesale Merchant Function.

Comment date: April 19, 2000, in accordance with Standard Paragraph E at the end of this notice.

22. New Century Services, Inc.

[Docket No. ER00-1996-000]

Take notice that on March 28, 2000, New Century Services, Inc., on behalf of Cheyenne Light, Fuel and Power Company, Public Service Company of Colorado, and Southwestern Public Service Company (collectively Companies), tendered for filing a Service Agreement under their Joint Open Access Transmission Service Tariff for Long-Term Firm Point-to-Point Transmission Service between the Companies and Public Service Company of Colorado—Bulk Power Sales Group.

Comment date: April 19, 2000, in accordance with Standard Paragraph E at the end of this notice.

23. Bradley G. Ritz

[Docket No. ID-3477-000]

Take notice that on March 28, 2000, the above-named individual filed with the Federal Energy Regulatory Commission an application for authority to hold an interlocking position in the Van Buren Revolving Loan Fund and Northern Maine Independent System Administrator, Inc.

Comment date: April 19, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-8895 Filed 4-10-00; 8:45 am]

BILLING CODE 6717-01-P